EXPORT-IMPORT BANK OF THE UNITED STATES

Economic Impact Policy

This notice is to inform the public that the Export-Import Bank of the United States has received an application to guarantee approximately $15 million in commercial bank financing for the U.S. export of approximately $31 million worth of photovoltaic module manufacturing equipment and services for the construction of a new thin film photovoltaic production facility in Germany. The U.S. exports will enable the German company to produce approximately 21.5 megawatts (MW) worth of amorphous silicon thin film photovoltaic modules per year on average during the 8.5-year repayment term of the loan. Available information indicates that all of this new German production will be consumed in Germany.

Please note that this transaction was first posted in the Federal Register on September 25, 2007. Interested parties may submit comments on this transaction by e-mail to economic.impact@exim.gov or by mail to 811 Vermont Avenue, NW., Room 1238, Washington, DC 20571, within 14 days of the date this notice appears in the Federal Register.

Helene S. Walsh,
Vice President, Policy Analysis.

[FR Doc. E9-2364 Filed 2-3-09; 8:45 am]

BILLING CODE 6690-01-P